DEPARTMENT OF COMMERCE

National Oceanic and Atmospheric Administration

RIN 0648-XD213

Marine Mammals; File No. 18694

AGENCY: National Marine Fisheries Service (NMFS), National Oceanic and Atmospheric Administration (NOAA), Commerce.

ACTION: Notice; receipt of application.

SUMMARY: Notice is hereby given that a permit has been issued to Mervi Kunnasranta, Ph.D., University of Eastern Finland, P.O. Box 111, 80101 Joensuu Finland, has applied in due form for a permit to conduct commercial/educational photography on harbor seals (Phoca vitulina).

DATES: Written, telefaxed, or email comments must be received on or before August 21, 2014.

ADDRESSES: The permit and related documents are available for review upon written request or by appointment in the following office:

Permits and Conservation Division, Office of Protected Resources, NMFS, 1315 East-West Highway, Room 13705, Silver Spring, MD 20910; phone (301)427-8401; fax (301)713-0376.

FOR FURTHER INFORMATION CONTACT: Courtney Smith or Amy Sloan, (301)427-8401.

SUPPLEMENTARY INFORMATION: On April 3, 2014, notice was published in the Federal Register (79 FR 18669) that a request for a permit to conduct commercial or educational photography had been submitted by the above-named applicant. The requested permit has been issued under the authority of the Marine Mammal Protection Act of 1972, as amended (MMPA; 16 U.S.C. 1361 et seq.) and the regulations governing the taking and importing of marine mammals (50 CFR part 216). Section 104(c)(6) provides for photography for educational or commercial purposes involving non-endangered and non-threatened marine mammals in the wild.

Permit No. 18694 authorizes commercial/educational underwater and vessel-based filming and photography of the freshwater harbor seal population at Lake Iliamna, Alaska. Filming will take place for approximately one week between spring and fall annually, most likely during the seals' molt period in summer, after pupping; up to 280 seals may be approached and filmed annually. Obtained footage will be part of an international documentary film presenting the world's other freshwater seal species, to be published in Europe.

In compliance with the National Environmental Policy Act of 1969 (42 U.S.C. 4321 et seq.), an final determination has been made that the activity proposed is categorically excluded from the requirement to prepare an environmental assessment or environmental impact statement.

Dated: July 17, 2014.
Julia Harrison,
Chief, Permits and Conservation Division, Office of Protected Resources, National Marine Fisheries Service.

[FR Doc. 2014-17187 Filed 7-21-14; 8:45 am]

BILLING CODE 3510-22-P